POSTAL SERVICE

39 CFR Part 111

Customs Declaration Exceptions

AGENCY: Postal Service™.

ACTION: Final rule.

SUMMARY: The Postal Service is revising Mailing Standards of the United States Postal Service, Domestic Mail Manual (DMM®), in various sections, to delete the “known mailer” and “official mail” exceptions for customs declarations for mail to, from, or between overseas U.S. military and diplomatic Post Office® addresses.

DATES: Effective: September 29, 2024.

FOR FURTHER INFORMATION CONTACT: Vlad Spanu at (202) 268-4180 or Kathy Frigo at (202) 268-4178.

SUPPLEMENTARY INFORMATION: On May 10, 2023, the Postal Service published a notice of proposed rulemaking (88 FR 30068) to delete section 703.2.3.9, “Customs Declarations—Exceptions,” to align Postal Service regulations with current customs policy.

The Postal Service also proposed to make minor revisions to the text in sections 608.2.4.4 and 703.2.3.8 to align with deleting section 703.2.3.9.

Additionally, due to deleting section 703.2.3.9, the Postal Service is renumbering current sections 703.2.3.10 through 703.2.3.13, respectively, and revising the introductory text in renumbered section 703.2.3.10.

Responses to Comments

The Postal Service received nine formal comments on the May 10, 2023, proposed rule. Two commenters concurred without comment, and seven commenters cited concerns to the proposed rule.

The comments received and the Postal Service's responses area as follows:

Comment: Two commenters said that they felt the current “known mailer” and “official mail” exceptions wording should not be amended for mail sent to or from overseas military and diplomatic Post Office addresses since the change could prevent mailing classified materials. The commenters also indicated that providing detailed descriptions on the customs form could identify secret and sensitive contents.

In addition, the commenters noted that they send and receive documents and equipment currently considered as “official mail” from military locations and utilize a general description to deter rifling or theft. In support, one of the two commenters cited a reference from the Department of Defense Manual 5200.01-V3 Enclosure 4: “Preparation of Material for Shipment: (3) Do not place a classification marking or any other unusual marks on the outer envelope or container that might invite special attention to the fact that the contents are classified.”

For these reasons, both commenters said that they felt that instituting the proposed rule would hinder investigations and clearance adjudications missions, ultimately stagnating the nation's trusted workforce, and adversely impacting governmental departments. The commenters further indicated that continued use of the Postal Service for classified mail is contingent upon official mail to move freely without unnecessary roadblocks to meet critical mission requirements.

USPS Response: The Postal Service requires the information senders provide on customs declaration forms to be electronically transmitted to USPS before the package enters the Postal Service network. By using the electronic customs declaration data, risk assessment tools, and data analytics, the United States Postal Inspection Service (USPIS) identifies packages with a potential risk to national security or the safety of the Postal Service mail stream.

The detailed descriptions' section of the Customs Declaration Form and Advance Electronic Data (AED) are used to provide a list of the contents within the package. The Postal Service does not have rules that require the disclosure of whether the contents are sensitive or confidential, nor a requirement to provide such marking on the exterior package that would reveal the national-security-classification level of the contents.

Comment: Like the previous comment, three commenters said that they felt the current “known mailer” and “official mail” exceptions wording should not be amended for mail sent to or from overseas military and diplomatic Post Office addresses since the change could prevent mailing sensitive or classified materials if the contents are required to be disclosed as such on the customs declaration form.

One of the two commenters also indicated that requiring a detailed description for unclassified materials poses a potential of identifying other mail as sensitive or classified based on the sole “documents” description.

The commenters further indicated that it would not be an issue if the Postal Service continued to accept a general description, such as “documents” for the description of sensitive or classified documents and equipment. One commenter further indicated that mailing classified documents would be contingent upon the allowance of using “documents” as the descriptor for all official mail.

USPS Response: Similar to the previous responses, there is no requirement to identify “secret,” “sensitive,” “classified,” or any other such distinction. For non-dutiable documents, the level of detail that would most often be expected to be adequate is “documents.”

Comment: One commenter did not oppose removing the “known mailer” and “official mail” exemptions for customs declaration forms for mail addressed to international addresses, but did oppose removing the exemption for mail addressed to and from overseas military and diplomatic Post Office addresses. The commenter felt that the exemption allows mail sent in an official capacity to move freely and for the most part without unnecessary roadblocks to meet critical mission requirements, and also provides the ability to conceal contents that could potentially be of a sensitive nature.

USPS Response: Similar to previous responses, the Postal Service requires the information senders provide on customs declaration forms to be electronically transmitted to USPS before the package enters the Postal Service network. By using the electronic customs declaration data, risk assessment tools, and data analytics, the USPIS identifies packages with a potential risk to national security or the safety of the Postal Service mail stream.

There is no Postal Service requirement to identify a non-dutiable document as classified or sensitive on the customs declaration form or on the exterior of the package and, therefore, would not reveal the national security classification level of the contents.

Comment: One commenter opposed amending the “known mailer” and “official mail” exceptions for mail to or from overseas military and diplomatic Post Office addresses since it would cause a change to current procedures, requiring time to educate their personnel and the communities they support on the new procedures. The commenter further indicated that U.S. Government entities should not be subjected to providing information on the customs declaration form or markings on the outer envelope or box since it could allude to the contents as confidential or classified material and cited a reference from the Department of Defense Manual 5200.01-V3 Enclosure 4: “Preparation of Material for Shipment: (3) Do not place a classification marking or any other unusual marks on the outer envelope or container that might invite special attention to the fact that the contents are classified.”

USPS Response: As indicated in previous responses, there is no requirement to identify “secret” or “sensitive” or “classified” or any other such distinction. The “detail” description that would most often be expected to be adequate is “documents.”

In addition, the Postal Service is simultaneously implementing associated changes to the International Mail Manual (IMM®) under separate cover, eliminating the “known mailer” and “official mail” exceptions for mail in the international Postal Service network to conform to international law requirements for customs forms and data, which do not allow such exceptions.

Given these necessary changes for international mail, the changes to the DMM will also promote uniformity in how mail originating in the United States and destined for overseas is inducted, screened, and processed, thus simplifying operational processes and avoiding customer confusion.

Comment: Two commenters responded as “Concurred without comment.”

USPS Response: The Postal Service thanks those commenters for the feedback and appreciates the support of this change.

The Postal Service adopts the described changes to Mailing Standards of the United States Postal Service, Domestic Mail Manual (DMM), incorporated by reference in the Code of Federal Regulations.

The Postal Service will publish an appropriate amendment to 39 CFR part 111 to reflect the changes.

In a separate rule, the Postal Service will also revise associated revisions to the International Mail Manual (IMM).

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise Mailing Standards of the United States Postal Service, Domestic Mail (DMM), as follows:

Mailing Standards of the United States Postal Service, Domestic Mail Manual (DMM)

* * * * *

600 Basic Standards for All Mailing Services

* * * * *

608 Postal Information and Resources

* * * * *

2.0 Domestic Mail

* * * * *

2.4 Customs Forms Required

* * * * *

2.4.4 Overseas Military Mail

[Revise the text of 2.4.4 to read as follows:]

For determining customs declarations' required usage when mailing to or from APO, FPO, or DPO addresses, see 703.2.3.6 through 703.2.3.8.

* * * * *

700 Special Standards

703 Nonprofit USPS Marketing Mail and Other Unique Eligibility

* * * * *

2.0 Overseas Military and Diplomatic Post Office Mail

* * * * *

2.3 General Restrictions

* * * * *

2.3.8 Customs Declarations—Required Usage

[Revise the introductory text of 2.3.8 to read as follows:]

In accord with the procedures provided in 2.3.6, customs declarations forms are required for use on shipments to or from APO/FPO/DPO locations as follows:

[Revise the text of item a. to read as follows:]

a. Priority Mail Express mailpieces addressed to or from an APO, FPO, or DPO location must bear a properly completed computer-generated PS Form 2976-B, Priority Mail Express International Shipping Label and Customs Form, regardless of weight, value, or contents.

[Revise the introductory text of item b. to read as follows:]

b. All other mailpieces addressed to or from an APO, FPO, or DPO location must bear a properly completed computer-generated PS Form 2976, Customs Declaration CN22—Sender's Declaration, or, if the customer prefers, a properly completed computer-generated PS Form 2976-A, Customs Declaration and Dispatch Note—CP 72, if either of the following conditions applies:

* * * * *

[Delete 2.3.9, “Customs Declarations—Exceptions,” in its entirety and renumber current 2.3.10 through 2.3.13 as 2.3.9 through 2.3.12.]

* * * * *

2.3.10 Items Not Eligible for Deposit or Pickup

[Revise the introductory text of renumbered 2.3.10 to read as follows:]

Customers must present the following items requiring a customs form to an employee at a Post Office retail service counter. The Postal Service will return these improperly presented items to the sender for proper entry and acceptance:

* * * * *

Sarah Sullivan,
Attorney, Ethics & Legal Compliance.

[FR Doc. 2024-13425 Filed 6-20-24; 8:45 am]

BILLING CODE 7710-12-P